DEPARTMENT OF AGRICULTURE

DEPARTMENT OF HEALTH AND HUMAN SERVICES

Dietary Guidelines for Americans: Request for Comments on Topics and Questions

AGENCY: Food, Nutrition, and Consumer Services, U.S. Department of Agriculture, and Office of the Assistant Secretary for Health, Office of the Secretary, Department of Health and Human Services.

ACTION: Notice.

SUMMARY: The Departments of Agriculture (USDA) and Health and Human Services (HHS) solicit written comments on the topics and questions to be examined in the review of scientific evidence supporting the development of the 2020-2025 Dietary Guidelines for Americans.

DATES: The topics and questions are available for review and public comment. Electronic or written/paper comments will be accepted through midnight Eastern Time on March 30, 2018.

ADDRESSES: The topics and questions are available on the internet at www.DietaryGuidelines.gov. You may submit comments as follows:

• Electronic submissions: Follow the instructions for submitting comments at www.regulations.gov. Comments submitted electronically, including attachments, will be posted to the docket.

• Written/paper submissions: Mail/courier to Kristin Koegel, USDA Food and Nutrition Service, Center for Nutrition Policy and Promotion, 3101 Park Center Drive, Suite 1034, Alexandria, VA 22302. For written/paper submissions, CNPP will post your comment, as well as any attachments, to www.regulations.gov.

FOR FURTHER INFORMATION CONTACT: Kristin Koegel, Center for Nutrition Policy and Promotion, Food and Nutrition Service, Department of Agriculture, (703) 305-7600 or by email at dietaryguidelines@cnpp.usda.gov. If members of the public need special accommodations, please notify Kristin Koegel by March 30, 2018, at (703) 305-7600, or email at dietaryguidelines@cnpp.usda.gov.

SUPPLEMENTARY INFORMATION: Section 301 of the National Nutrition Monitoring and Related Research Act of 1990 (7 U.S.C. 5341) requires the Secretaries of USDA and HHS to publish the Dietary Guidelines for Americans (Dietary Guidelines) jointly at least every five years. Recent editions of the Dietary Guidelines have provided food and nutrition advice for Americans ages two years and older to promote health and help prevent chronic disease. The 2020-2025 Dietary Guidelines, and subsequent editions, must address the mandate from the Agricultural Act of 2014 which requires the provision of nutritional and dietary guidelines and information for women who are pregnant and children, from birth to 2 years of age.

To inform effective management of resources and enhance transparency, the Departments are identifying topics and questions to be considered in the review of scientific evidence supporting the development of the 2020-2025 Dietary Guidelines. In establishing this list of topics and questions, the Departments considered the following criteria for prioritization:

• Relevance: Topic is within the scope of the Dietary Guidelines. The focus of the Dietary Guidelines is food-based recommendations; changes to the Dietary Reference Intakes are not within the scope of the Dietary Guidelines. Clinical guidelines for the medical treatment and care of individuals with specific diseases and conditions are not included in the Dietary Guidelines.

• Importance: Topics for which there are new, relevant data and that represent an area of substantial public health concern, uncertainty, and/or a knowledge gap.

• Potential Federal Impact: Probability that guidance on the topic in the Dietary Guidelines would inform Federal food and nutrition policies and programs.

• Duplication: Topic is not currently addressed through existing evidence-based Federal guidance (other than the Dietary Guidelines).

Electronic or Written Public Comments: Comments on the topics and questions are encouraged from the public and will be accepted through March 30, 2018. The www.regulations.gov electronic filing system will accept electronic comments until midnight Eastern Time at the end of March 30, 2018. Comments received by mail/courier will be considered if they are postmarked or the delivery service acceptance receipt date is on or before that date. Written comments via mail/courier will be uploaded into www.regulations.gov and are under the same limitations as for those directly submitted electronically into www.regulations.gov: 5,000 character limit for text box, and maximum number (10) of attached files and maximum size (10 MB) of each attached file. Please make note of copyright issues on your attachments. A link to the www.regulations.gov electronic filing system will also be available at www.DietaryGuidelines.gov.

USDA and HHS request comments on the topics and questions to be examined in the review of scientific evidence supporting the development of the 2020-2025 Dietary Guidelines. Specifically, USDA and HHS request comments in support or opposition of the proposed topics and questions available at www.DietaryGuidelines.gov. If a new topic or question is suggested, provide a brief summary of the topic, including information pertaining to the prioritization criteria listed above. It is requested that comments be limited to one page per topic. USDA and HHS will consider all comments in finalizing the list of topics and questions to be examined in the development of the 2020-2025 Dietary Guidelines. This final list of topics and questions will inform the scope of the next edition of the Dietary Guidelines.

Dated: February 21, 2018.
Brandon Lipps,
Administrator, Food and Nutrition Service, U.S. Department of Agriculture.

Dated: February 22, 2018.
Donald Wright,
Deputy Assistant Secretary for Health, Office of Disease Prevention and Health Promotion, Office of the Assistant Secretary for Health, U.S. Department of Health and Human Services.

[FR Doc. 2018-04058 Filed 2-27-18; 8:45 am]

BILLING CODE 3410-30-P